DEPARTMENT OF COMMERCE

National Oceanic and Atmospheric Administration

[RTID 0648-XE834]

Magnuson-Stevens Act Provisions; General Provisions for Domestic Fisheries; Application for Exempted Fishing Permits

Correction

In notice document 2025-06588, appearing on pages 16111-16112, in the issue of Thursday, April 17, 2025, make the following correction:

On page 16111, in the third column, in the DATES section, in the second line, “August 1, 2025.” should read “May 2, 2025.”

[FR Doc. C1-2025-06588 Filed 4-21-25; 8:45 am]

BILLING CODE 0099-10-D